DEPARTMENT OF THE INTERIOR

Bureau of Land Management

[LLCAN00000.L18200000.XZ0000]

Notice of Public Meeting: Northeast California Resource Advisory Council and Subcommittee

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council and its Sage Steppe Ecosystem Subcommittee will meet as indicated below.

DATES: The RAC Sage Steppe Ecosytem Subcommittee will meet Friday, May 7, 2010, at 9 a.m. at the BLM Alturas Field Office, 708 W. 12th St., Alturas, California. The full RAC will meet Wednesday and Thursday, June 2 and 3, 2010, at the BLM Alturas Field Office. On June 2, the meeting begins at 10 a.m. and includes a field trip to lands managed by the BLM Alturas Field Office. On June 3, the meeting begins at 8 a.m. and adjourns about 3 p.m. Time for public comments has been reserved for 11 a.m.

FOR FURTHER INFORMATION CONTACT: Nancy Haug, BLM Northern California District Manager, (530) 221-1743; or BLM Public Affairs Officer Joseph J. Fontana, (530) 252-5332.

SUPPLEMENTARY INFORMATION: The 15-member council advises the Secretary of the Interior, through the BLM, on a variety of planning and management issues associated with public land management in northeast California and the northwest corner of Nevada. At the subcommittee meeting members will discuss multi-agency coordination for implementing projects under the Sage Steppe Ecosystem Restoration Strategy. Agenda topics for the full RAC meeting include consideration of a report from the subcommittee, updates on wilderness planning, emigrant trail conservation, sage grouse management, an update on the Ruby Pipeline, an update and status report on the National Landscape Conservation System, a report on planning for the Twin Peaks wild horse and burro gather, and updates on the Bly Tunnel and Modoc Line topics. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: February 26, 2010.
Joseph J. Fontana,
Public Affairs Officer.

[FR Doc. 2010-5344 Filed 3-10-10; 8:45 am]

BILLING CODE 4310-40-P